DEPARTMENT OF TRANSPORTATION

Federal Highway Administration

Final Federal Agency Actions on Proposed Highway in North Carolina

AGENCY: Federal Highway Administration (FHWA), DOT.

ACTION: Notice of Limitation on Claims for Judicial Review of Actions by Army Corps of Engineers (USACE).

SUMMARY: This notice announces actions taken by the USACE that are final within the meaning of 23 U.S.C. 139(l)(1). The actions relate to a proposed highway project, the Monroe Connector/Bypass, from US 74 near I-485 in Mecklenburg County, North Carolina, to US 74 between the towns of Wingate and Marshville in Union County, North Carolina. The Monroe Connector/Bypass is also known as State Transportation Improvement Program Project R-3329/R-2559. Those actions grant licenses, permits, and approvals for the project.

DATES: By this notice, the FHWA is advising the public of final agency actions subject to 23 U.S.C. 139(l)(1). A claim seeking judicial review of the Federal agency actions that are covered by this notice will be barred unless the claim is filed on or before January 17, 2012. If the Federal law that authorizes judicial review of a claim provides a time period of less than 180 days for filing such claim, then that shorter time period still applies.

FOR FURTHER INFORMATION CONTACT: For FHWA: Mr. George Hoops, P.E., Major Projects Engineer, Federal Highway Administration, 310 New Bern Avenue, Suite 410, Raleigh, North Carolina 27601-1418, Telephone: (919) 747-7022; e-mail: george.hoops@dot.gov. FHWA North Carolina Division Office's normal business hours are 8 a.m. to 5 p.m. (Eastern Time). For the North Carolina Turnpike Authority (NCTA): Ms. Jennifer Harris, P.E., Director of Planning and Environmental Studies, North Carolina Turnpike Authority (NCTA), 1578 Mail Service Center, Raleigh, North Carolina 27699, Telephone: (919) 707-2700; e-mail: jhharris1@ncdot.gov. NCTA's normal business hours are 8 a.m. to 5 p.m. (Eastern Time). For USACE: Ms. Liz Hair, Project Manager, US Army Corps of Engineers, Asheville Regulatory Field Office, 151 Patton Avenue, Room 208, Asheville, North Carolina 28801, Telephone: (828) 271-7980; e-mail: sarah.e.hair@usace.army.mil. USACE's normal business hours are 8 a.m. to 5 p.m. (Eastern Time)

SUPPLEMENTARY INFORMATION: On September 27, 2010, the FHWA published a “Notice of Final Federal Agency Actions on Proposed Highway in North Carolina” in the Federal Register in Volume 75, Number 186 for the following highway project: The Monroe Connector/Bypass, a 20 mile long, multi-lane, fully access-controlled, new location toll road located in Mecklenburg and Union Counties, North Carolina. The purpose of the project is to improve mobility and capacity within the project study area by providing a facility for the US 74 corridor from near I-485 in Mecklenburg County to between the towns of Wingate and Marshville in Union County that allows for high-speed regional travel consistent with the designations of the North Carolina Strategic Highway Corridor program and the North Carolina Intrastate System, while maintaining access to properties along existing US 74. The actions by the Federal agencies, and the laws under which such actions were taken, are described in the Final Environmental Impact Statement (FEIS) for the project, approved on May 25, 2010, and the FHWA Record of Decision (ROD) issued on August 27, 2010 approving the Monroe Connector/Bypass project, and in other documents in the FHWA administrative record. The FEIS, ROD, and other documents in the FHWA administrative record file are available by contacting the FHWA or NCTA at the addresses provided above. Notice is hereby given that, subsequent to the earlier FHWA notice, the USACE has taken final agency actions within the meaning of 23 U.S.C. 139(l)(1) by issuing permits and approvals for the highway project. Specifically, the USACE issued an Environmental Assessment (EA) and Finding of No Significant Impact (FONSI) on April 5, 2011, and on April 15, 2011, issued a permit for the Monroe Connector/Bypass project. Both of these documents can be viewed at the following link: http://www.saw.usace.army.mil/Wetlands/Projects/MonroeBypass/index.html. The actions by the USACE, and the laws under which such actions were taken, are described in the USACE decisions and its project records, referenced as Department of the Army Permit Number 2009-00876. That information is available by contacting the USACE at the address or Web site provided above. This notice does not apply to any Federal agency actions and decisions addressed in the “Notice of Final Federal Agency Actions on Proposed Highway in North Carolina” previously published in the Federal Register on September 27, 2010.

Information about the project also is available from the FHWA and the NCTA at the addresses provided above. The FEIS and ROD can be viewed and downloaded from the “Project Library” link on the project Web site at http://www.ncturnpike.org/projects/monroe or viewed at the offices of the North Carolina Turnpike Authority. The USACE decision can be viewed and downloaded from the project Web site at http://www.ncturnpike.org/projects/monroe/documents.asp.

This notice applies to all USACE final actions taken after the issuance date of the FHWA Federal Register notice described above. The laws under which actions were taken include, but are not limited to:

1. Wetlands and Water Resources: Clean Water Act (Section 404, Section 401, Section 319) [33 U.S.C. 1251-1377].

(Catalog of Federal Domestic Assistance Program Number 20.205, Highway Planning and Construction. The regulations implementing Executive Order 12372 regarding intergovernmental consultation on Federal programs and activities apply to this program.)

Authority: 23 U.S.C. 139(l)(1).

Issued on: July 12, 2011.
George W. Hoops,
Major Projects Engineer, Federal Highway Administration, Raleigh, North Carolina.

[FR Doc. 2011-18060 Filed 7-15-11; 8:45 am]

BILLING CODE P